FEDERAL COMMUNICATIONS COMMISSION

47 CFR Part 73

[DA 10-2279; MB Docket No. 10-65; RM-10595]

Radio Broadcasting Services; Jewett, TX

AGENCY: Federal Communications Commission.

ACTION: Proposed rule; dismissal.

SUMMARY: At the petitioner's request, the Audio Division has dismissed the proposal of Charles Crawford to allot Channel 232A at Jewett, Texas. Crawford had filed a petition for rule making proposing the allotment of Channel 232A at Jewett, Texas, as the community's first local FM transmission service.

FOR FURTHER INFORMATION CONTACT: Deborah Dupont, Media Bureau, (202) 418-2180.

SUPPLEMENTARY INFORMATION: This is a synopsis of the Commission's Report and Order, MB Docket No. 10-65, RM-10595, adopted December 1, 2010, and released December 3, 2010. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document is not subject to the Congressional Review Act. The Commission is, therefore, not required to send a copy of this Report and Order in a report to be sent to Congress and the Government Accountability Office pursuant to the Congressional Review Act, see U.S.C. 801(a)(1)(A), because the proposed rule was dismissed.

Federal Communications Commission.
John A. Karousos,
Assistant Chief, Audio Division, Media Bureau.

[FR Doc. 2010-31997 Filed 12-20-10; 8:45 am]

BILLING CODE 6712-01-P